DEPARTMENT OF HEALTH AND HUMAN SERVICES

Administration for Children and Families

[OMB NO.: 0970-0402]

Submission for OMB Review; Comment Request

Title: Mother and Infant Home Visiting Program Evaluation (MIHOPE): Long-Term Follow-Up.

Description: The Administration for Children and Families (ACF), in partnership with the Health Resources and Services Administration (HRSA), both of the U.S. Department of Health and Human Services (HHS), is proposing a data collection activity as part of the Mother and Infant Home Visiting Program Evaluation Long-Term Follow-Up project (MIHOPE-LT). The purpose of MIHOPE-LT is to conduct follow-up studies that assess the long-term impact of the Maternal, Infant, and Early Childhood Home Visiting (MIECHV) Program. The design of MIHOPE-LT calls for multiple follow-up points including when the participating children are in kindergarten, 3rd grade, early adolescence, and late adolescence. This Federal Register Notice is specific to the first follow-up study. Data collected during the first follow-up study (when the children from the MIHOPE sample are of kindergarten age) will include the following: (1) A one-hour survey with the child's primary caregiver (who will be the mother if she is available), (2) direct assessments of child development, (3) a semi-structured interview with the caregiver, (4) surveys with the child's teacher, (5) a direct assessment of the caregiver, and (6) 15 minutes of videotaped interactions between the caregiver and child. In addition to collecting these data, the MIHOPE-LT project will also maintain up-to-date consent forms for the collection of administrative data. Future information collection requests and related Federal Register Notices will describe future data collection efforts for this project.

Data collected during the kindergarten follow-up study will be used to estimate the effects of MIECHV-funded programs on seven domains: (1) Maternal health; (2) child health; (3) child development and school performance; (4) child maltreatment; (5) parenting; (6) crime or domestic violence; and (7) family economic self-sufficiency.

Respondents: The respondents in this follow-up study will include 4,115 families who participated in MIHOPE and 4,115 teachers of the focal children from those families.

Annual Burden Estimates
Instrument | Total number of respondents | Annual number of respondents | Number of responses per respondent | Average burden hours per response | Annual burden hours
Survey of caregivers | 4115 | 1372 | 1 | 1 | 1372
Direct assessments of children | 4115 | 1372 | 1 | 1.5 | 2058
Semi-structured interview with caregivers | 100 | 33 | 1 | 2 | 66
Survey of the focal children's teachers | 4115 | 1372 | 1 | 0.5 | 686
Direct assessments of caregivers | 4115 | 1372 | 1 | 0.25 | 343
Videotaped caregiver-child interactions | 8230 | 2743 | 1 | 0.25 | 686

Estimated Total Annual Burden Hours: 5,211.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication.

Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2018-10169 Filed 5-11-18; 8:45 am]

BILLING CODE 4184-77-P